DEPARTMENT OF ENERGY

Federal Energy Regulatory Commission

Combined Notice of Filings # 1

October 2, 2006.

Take notice that the Commission received the following electric rate filings:

Docket Numbers: ER06-1185-002.

Applicants: Pace Global Asset Management, LLC.

Description: Pace Global Asset Management, LLC submits an amended tariff, Substitute Sheet 1 et al. to FERC Electric Tariff, Original Volume 1.

Filed Date: 09/27/2006.

Accession Number: 20060929-0208.

Comment Date: 5 p.m. Eastern Time on Wednesday, October 18, 2006.

Docket Numbers: ER06-1249-001.

Applicants: Southern Company Services, Inc.

Description: Southern Company Services Inc submits its Compliance Refund Report pursuant to FERC's Letter Order dated 9/11/06.

Filed Date: 09/28/2006.

Accession Number: 20060929-0203.

Comment Date: 5 p.m. Eastern Time on Thursday, October 19, 2006.

Docket Numbers: ER06-1537-000.

Applicants: Public Service Company of New Mexico.

Description: Public Service Company of New Mexico submits its Network Integration Transmission Service Agreement and a related Network Operating Agreement et al. with Navajo Tribal Utility Authority.

Filed Date: 09/28/2006.

Accession Number: 20060929-0209.

Comment Date: 5 p.m. Eastern Time on Thursday, October 19, 2006.

Docket Numbers: ER06-1540-000.

Applicants: Southern California Edison Company.

Description: Southern California Edison Co submits its Service Agreement No. 7, FERC Electric Tariff, Second Revised Volume No. 6.

Filed Date: 09/28/2006.

Accession Number: 20060929-0207.

Comment Date: 5 p.m. Eastern Time on Thursday, October 19, 2006.

Docket Numbers: ER06-1542-000.

Applicants: Kansas City Power & Light Company.

Description: Kansas City Power & Light Company submits its OATT, First Revised Volume No. 3.

Filed Date: 09/28/2006.

Accession Number: 20060929-0195.

Comment Date: 5 p.m. Eastern Time on Thursday, October 19, 2006.

Docket Numbers: ER06-1543-000.

Applicants: Brush Cogeneration Partners.

Description: Brush Cogeneration Partners application for order accepting initial rate schedule, waiving regulations, and granting blanket approvals.

Filed Date: 09/28/2006.

Accession Number: 20060929-0204.

Comment Date: 5 p.m. Eastern Time on Thursday, October 19, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-16621 Filed 10-6-06; 8:45 am]

BILLING CODE 6717-01-P